DEPARTMENT OF ENERGY

Federal Energy Regulatory Commission

[Docket No. ER99-3491-004, et al.]

PPL Montana, LLC, et al.; Electric Rate and Corporate Filings

April 21, 2005.

The following filings have been made with the Commission. The filings are listed in ascending order within each docket classification.

1. PPL Montana, LLC, PPL Colstrip I, LLC, PPL Colstrip II, LLC

[Docket Nos. ER99-3491-004, ER00-2184-002, and ER00-2185-002]

Take notice that on April 15, 2005, PPL Montana, LLC; PPL Colstrip I, LLC; and PPL Colstrip II, LLC (collectively the PPL MT Parties) submitted a compliance filing pursuant to the Commission's deficiency letter issued on March 25, 2005, in Docket Nos. ER99-3491-002, et al., and pursuant to the Commission's order issued on February 10, 2005, in Docket No. RM04-14-000, Reporting Requirement for Changes in Status for Public Utilities With Market-Based Rate Authority, Order No. 652, 70 FR 8253 (Feb 18, 2005). The PPL MT Parties state that the compliance filing consists of responses Commission Staff's questions contained in the March 25, 2005 deficiency letter regarding the PPL and MT Parties' triennial market-based rate update, and revised tariff sheets to incorporate the Commission's change in status reporting requirements.

The PPL MT Parties state that copies of the filing were served on parties on the official service list in Docket Nos. ER99-3491-003, ER00-2184-001 and ER00-2185-001.

Comment Date: 5 p.m. eastern time on May 6, 2005.

2. Promet Energy Partners LLC

[Docket No. ER05-331-001]

Take notice that on April 13, 2005, Promet Energy Partners LLC, (Promet) submitted for filing a revised Rate Schedule FERC No. 1, Sheet No. 1. Promet states that this revision was necessary in order to comply with Order No. 652, 110 FERC ¶ 61,097, (2005), which requires change in status reporting requirement be incorporated in the market-based rate tariff of each entity authorized to make sales at market-based rates.

Comment Date: 5 p.m. eastern time on May 4, 2005.

3. Mitchell Electric Membership Corporation

[Docket No. ER05-350-002]

Take notice that on April 15, 2005, Mitchell Electric Membership Corporation submitted a compliance filing pursuant to the Commission's order issued March 25, 2005, Mitchell Electric Membership Corporation, 110 FERC ¶ 61,350 (2005).

Comment Date: 5 p.m. eastern time on May 6, 2005.

4. Wisconsin River Power Company

[Docket No. ER05-453-002]

Take notice that on April 14, 2005, Wisconsin River Power Company (Wisconsin River) filed revised tariff sheets and information regarding interlocking directorates in compliance with the Commission's Letter Order issued March 25, 2005 (110 FERC ¶ 61,342).

Comment Date: 5 p.m. eastern time on May 6, 2005.

5. Tucson Electric Power Company and UNS Electric, Inc.

[Docket No. ER05-610-002]

Take notice that on April 19, 2005, Tuscon Electric Power Company (Tucson Electric) and UNS Electric, Inc. filed substitute revised tariff sheets to its February 18, 2005 filing in Docket Nos. ER05-610-000 and 001 in compliance with Standardization of Generator Interconnection Agreements and Procedures, 109 FERC ¶ 61,287 (2004). Tucson Electric requests an effective date of January 19, 2005.

Comment Date: 5 p.m. eastern time on May 10, 2005.

6. KRK Energy

[Docket No. ER05-713-001]

Take notice that on April 15, 2005, KRK Energy submitted an amendment to its March 17, 2005 filing in Docket No. ER05-713-001.

Comment Date: 5 p.m. eastern time on May 6, 2005.

7. Cokinos Power Trading Company

[Docket No. ER05-832-000]

Take notice that on April 15, 2005, Cokinos Power Trading Company, submitted for filing a Notice of Cancellation of its market-based rate authority approved by the Commission's order issued May 14, 2002 in Docket No. ER02-1365-000.

Comment Date: 5 p.m. eastern time on May 6, 2005.

8. New England Power Company

[Docket No. ER05-835-000]

Take notice that on April 18, 2005, New England Power Company (NEP) submitted two local service agreements for local network service with Bear Swamp Power Co., LLC (Bear Swamp Power), under ISO New England Inc.'s Transmission, Markets and Services Tariff (ISO New England Inc., FERC Electric Tariff No. 3).

NEP states that a copy of this filing has been served upon Bear Swamp Power, ISO New England Inc., and regulators in the Commonwealth of Massachusetts.

Comment Date: 5 p.m. eastern time on May 9, 2005.

9. American Electric Power Service Corporation

[Docket No. ER05-836-000 ]

Take notice that on April 18, 2005, American Electric Power Service Corporation (AEP), on behalf of its affiliate Public Service Company of Oklahoma, submitted for filing a letter agreement that provides for AEP to begin engineering, equipment procurement and construction work on the network upgrades required on the AEP transmission system as a result of interconnecting the wind power project being developed by Blue Canyon Windpower II, LLC to the Western Farmers Electric Cooperative transmission system. AEP requests an effective date of April 4, 2005.

AEP states that a copy of the filing was served upon Blue Canyon Windpower II, LLC.

Comment Date: 5 p.m. eastern time on May 9, 2005.

10. American Electric Power Service Corporation

[Docket No. ER05-837-000]

Take notice that on April 15, 2005, the American Electric Power Service Corporation, on behalf of its affiliate Ohio Power Company (AEP) tendered for filing pursuant to section 35.15 of the Commission's regulations, 18 CFR section 35.15, a notice of termination of an amended interconnection and operation agreement between Ohio Power Company and Lima Energy Company, LLC. designated as Service Agreement No. 463 under American Electric Power Operating Companies' open access transmission tariff. AEP requests an effective date of April 15 2005.

AEP states that a copy of the filing was served upon Lima Energy Company, LLC and upon the Public Utilities Commission of Ohio.

Comment Date: 5 p.m. eastern time on May 6, 2005.

11. California Independent System Operator Corporation

[Docket No. ER05-838-000]

Take notice that on April 18, 2005, the California Independent System Operator Corporation (ISO), tendered for filing an amendment (Amendment No. 5) to revise the metered subsystem agreement between the ISO and Silicon Valley Power (SVP) for acceptance by the Commission. The ISO states that the purpose of Amendment No. 5 is to add information regarding metering at the proposed new SVP Switching Station. The ISO requests privileged treatment, pursuant to 18 CFR 388.112, with regard to portions of the filing of Amendment No. 5. The ISO requests an effective date of April 19, 2005.

The ISO states that the non-privileged elements of this filing have been served on SVP, the California Public Utilities Commission, and all entities on the official service lists for Docket Nos. ER02-2321-000, ER04-185-000, ER04-940-000, ER05-81-000, ER05-449-000.

Comment Date: 5 p.m. eastern time on May 9, 2005.

12. Oregon Trail Electric Consumers Cooperative, Inc.

[Docket No. ES05-27-000]

Take notice that on April 8, 2005, Oregon Trail Electric Consumers Cooperative, Inc. (Oregon Trail) submitted an application pursuant to section 204 of the Federal Power Act seeking authorization to: (1) make long-term borrowings under a loan agreement with the National Rural Utilities Cooperative Finance Corporation (CFC) in an amount not to exceed $10 million; and (2) make no more than $5 million of short-term borrowings under a line of credit with CFC.

Oregon Trail also requests a waiver of the Commission's competitive bidding and negotiated placement requirements at 18 CFR 34.2.

Comment Date: 5 p.m. eastern time on May 12, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2045 Filed 4-27-05; 8:45 am]

BILLING CODE 6717-01-P